FEDERAL COMMUNICATIONS COMMISSION

[Report No. 2490]

Petitions for Reconsideration Clarification of Action in Rulemaking Proceedings

June 29, 2001.

Petitions for Reconsideration Clarification have been filed in the Commission's rulemaking proceedings listed in this Public Notice and published pursuant to 47 CFR Section 1.429(e). The full text of these documents are available for viewing and copying in Room CY-A257, 445 12th Street, SW., Washington, DC or may be purchased from the Commission's copy contractor, ITS, Inc. (202) 857-3800. Oppositions to these petitions must be filed by July 23, 2001. See Section 1.4 (b)(1) of the Commission's rules (47 CFR 1.4(b)(1)). Replies to an opposition must be filed within 10 days after the time for filing oppositions has expired.

Subject: Access Charge Reform (CC Docket No. 96-262).

Number of Petitions Filed: 7.

Subject: Amendment of Digital TV Table of Allotments (MM Docket No. 01-17).

Number of Petitions Filed: 1.

Subject: Implementation of the Local Competition Provisions in the Telecommunications Act of 1996 (CC Docket No. 96-98).

Intercarrier Compensation for ISP-Bound Traffic (CC Docket No. 99-68.

Number of Petitions Filed: 5.

Subject: In the Matter of Amendment of Parts of the Commission's Rules to accommodate Advanced Digital Communications in the 117.975-137 MHZ Band and to Implement Flight Information Services in the 136-137 MHZ Band (WT Docket No. 00-77).

Number of Petitions Filed: 1.

Subject: In the Matter of Calling Party Pays Service Option in the Commercial Mobile Radio Services (WT Docket No. 97-207).

Number of Petitions Filed: 1.

Federal Communications Commission.
Magalie Roman Salas,
Secretary.

[FR Doc. 01-16862 Filed 7-5-01; 8:45 am]

BILLING CODE 6712-01-M